DEPARTMENT OF THE INTERIOR

Geological Survey

[GX.17.MR00.G74E4.00]

Agency Information Collection Activities: Request for Comments

AGENCY: U.S. Geological Survey (USGS), Interior.

ACTION: Notice of revision of a currently approved information collection, (1028-0098).

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR. This collection is scheduled to expire on January 31, 2017.

DATES: To ensure that your comments on this ICR are considered, OMB must receive them on or before January 20, 2017.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0098 Nonindigenous Aquatic Species Sighting Reporting Form and Alert Registration Form'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0098: Nonindigenous Aquatic Species Sighting Reporting Form and Alert Registration Form' in all correspondence.

FOR FURTHER INFORMATION CONTACT: Pam Fuller at (352) 264-3481 (telephone); pfuller@usgs.gov (email); or by mail at U.S. Geological Survey, 7920 NW., 71st Street, Gainesville, Florida 32653. You may also find information about this ICR at www.reginfo.gov.

SUPPLEMENTARY INFORMATION:

I. Abstract

America is under siege by many harmful non-native species of plants, animals, and microorganisms. More than 6,500 nonindigenous species are now established in the United States, posing risks to native species, valued ecosystems, and human and wildlife health. These invaders extract a huge cost, an estimated $120 billion per year, to mitigate their harmful impacts. The current annual environmental, economic, and health-related costs of invasive species exceed those of all other natural disasters combined.

Through its Invasive Species Program (http://www.usgs.gov/ecosystems/invasive_species/), the USGS plays an important role in federal efforts to combat invasive species in natural and semi-natural areas through early detection and assessment of newly established invaders; monitoring of invading populations; and improving understanding of the ecology of invaders and factors in the resistance of habitats to invasion. The USGS provides the tools, technology, and information supporting efforts to prevent, contain, control, and manage invasive species nationwide. To meet user needs, the USGS also develops methods for compiling and synthesizing accurate and reliable data and information on invasive species for inclusion in a distributed and integrated web-based information system.

As part of the USGS Invasive Species Program, the Nonindigenous Aquatic Species (NAS) database (http://nas.er.usgs.gov/) functions as a repository and clearinghouse for occurrence information on nonindigenous aquatic species from across the United States. It contains locality information on more than 1,900 species of vertebrates, invertebrates, and vascular plants introduced since 1765. Taxa include foreign species as well as those native to North America that have been transported outside of their natural range. The NAS Web site provides immediate access to new occurrence records through a real-time interface with the NAS database. Visitors to the Web site can use a set of predefined queries to obtain lists of species according to state or hydrologic basin of interest. Fact sheets, distribution maps, and information on new occurrences are continually posted and updated. Dynamically generated species distribution maps show the spatial accuracy of the locations reported, population status, and links to more information about each report.

Information is collected from the public regarding the local occurrences of nonindigenous aquatic species, primarily fish, in open waters of the United States. This is vital information for early detection and rapid response for the possible eradication of organisms that may be considered invasive in a natural environment such as a lake, river, stream, or pond. Because it is not possible for USGS scientists to monitor all open waters for harmful nonindigenous organisms, the public can help by serving as the “eyes and ears” for the USGS's Nonindigenous Aquatic Species Program.

Members of the public who wish to report the occurrence of a suspected nonindigenous aquatic species, usually encountered through fishing or some other outdoor recreational activity, may fill out and submit a form (http://nas.er.usgs.gov/SightingReport.aspx) posted on our Web site. The information requested includes type of organism, date and location of sighting, photograph(s) if available, and basic observer contact information (to allow the USGS to contact the observer in the event additional information, such as Photos or more specific location details are needed).

NAS program staff maintains an alert system that contacts individuals via email when species occurrences are new to a county, drainage (HUC 8), or state. The alerts contain information on the specimen occurrence, such as the date and location of the occurrence, where the species is newly introduced, and any comments included by the reporter. In order for individuals (private or public citizens) to receive these alerts, they must register their first and last name (fictitious or real), email address, and a password on our alert registration form (https://nas.er.usgs.gov/AlertSystem/Register.aspx). Custom alerts are sent via email to individuals based on the alert types they chose in the alert sign-up page, and these custom alerts can be altered by the registered individual by logging in to the alert login page (https://nas.er.usgs.gov/AlertSystem/AlertLogin.aspx).

The USGS does not actively solicit or require observation or contact information from the public. Participation in the reporting process and the alert system is completely voluntary. The personally identifiable information given by individuals in these forms is stored internally in our sighting report and alert system databases, with all passwords encrypted to protect users' security.

II. Data

OMB Control Number: 1028-0098.

Form Number: Various (12 forms).

Title: Nonindigenous Aquatic Species Sighting Reporting Form and Alert Registration Form.

Type of Request: Revision of a currently approved information collection.

Respondent Obligation: Participation is voluntary.

Frequency of Collection: Occasional.

Description of Respondents: General public, State and Local governments, Tribal nations.

Estimated Total Number of Annual Responses: We estimate 600 users (400 individuals and 200 state/local/tribal governments) per year for the sighting report form, and 80 users (50 individuals and 30 state/local/tribal governments) per year for the alert registration form.

Estimated Time per Response: We estimate that it will take 3 minutes per person to complete the sighting report form and 1 minute per person to complete the alert registration form.

Estimated Annual Burden Hours: We estimate 30 hours for the sighting report form, and 2 hours for the alert registration form; a total of 32 hours for the two forms.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On October 5, 2016, we published a Federal Register notice (81 FR 69074) announcing that we would submit this ICR to OMB for approval and soliciting comments. The comment period closed on December 5, 2016. We received one comment. The commenter asked how the Department of the Interior (DOI) is coordinating with U.S. Department of Agriculture (USDA) to halt importation of invasive species that are currently represented in our NAS database. Our response indicated that the U.S. Fish and Wildlife Service (USFWS) under the DOI, and the Animal and Plant Health Inspection Service (APHIS) under the USDA are both authorized to regulate plant and animal species imported into and within the U.S. We provided Web site URLs for further reference to the agencies' policies and prohibited species lists.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Kenneth Rice,
Center Director, Wetland and Aquatic Research Center, U.S. Geological Survey.

[FR Doc. 2016-30697 Filed 12-20-16; 8:45 am]

BILLING CODE 4338-11-P